DEPARTMENT OF TRANSPORTATION

Office of the Secretary

[Docket No. OST-2002-11996]

Draft Report Implementing OMB's Information Dissemination Quality Guidelines

AGENCY: Office of the Secretary, DOT.

ACTION: Notice of availability and request for comment.

SUMMARY: The Department of Transportation (DOT) is drafting Departmental guidelines to implement section 515 of the Treasury and General Government Appropriations Act for FY 2001 (Pub. L. 106-554). The Office of Management and Budget (OMB) has issued Government-wide guidelines under Section 515 which direct each Federal agency to establish and implement written procedures to ensure and maximize the quality, utility, objectivity and integrity of the information that they disseminate.

DATES: Comments should be submitted by May 31, 2002.

ADDRESSES: You may file comments using the Internet by logging in on DOT's Dockets Management System (DMS) website at http://dms.dot.gov. Please follow the online instructions for submitting an electronic comment and for reviewing all comments on line. Once received, a notification receipt will be forwarded to you. You may fax your comments to the DMS at (202) 493-2251. You may also submit your comments by mail or in person by sending your comments to the U. S. Department of Transportation (DOT), Office of Dockets and Media Management to the Docket Clerk, Docket No. OST-2002-11996, 400 Seventh Street, SW., Room PL401, Washington, DC 20590-0001. If you would like the Department to acknowledge receipt of your written comments, you must include a self-addressed stamped postcard on which the following statement is made: “Comments on Docket OST-2002-11996.” The Docket Clerk will date stamp the postcard prior to returning it to you via the U.S. mail. Comments should identify the docket number. Written comments should be submitted in duplicate.

The Office of Dockets and Media Management is open for examination and copying, at the above address, from 9 a.m. to 5 p.m., Monday through Friday, except Federal holidays. All comments received will be available for inspection at the above address.

Please note that due to current mail security procedures affecting U.S. Postal Service delivery to Government offices, commenters may find it advantageous to use an alternative method (the internet, fax, or professional delivery service) to submit comments to the Docket and ensure their timely receipt at the U.S. Department of Transportation.

FOR FURTHER INFORMATION CONTACT: Vanester M. Williams, Office of the Chief Information Officer, U. S. Department of Transportation; 202-366-1771 (not a toll-free call) or by email at vanester.williams@ost.dot.gov. For specific inquiries on the Department's administrative mechanisms for allowing persons to seek correction of information, please contact Robert Ashby, Office of the General Counsel, U. S. Department of Transportation; 202-366-9310 (not a toll-free call) or by email at bob.ashby@ost.dot.gov. For specific inquiries on the Department's statistical guidelines, please contact Dr. Patrick Flanagan, Bureau of Transportation Statistics, U. S. Department of Transportation; 202-366-4168 (not a toll-free call) or by email at pat.flanagan@bts.dot.gov.

SUPPLEMENTARY INFORMATION: The Department's information quality guidelines will apply to a wide variety of its information dissemination activities in order to meet basic information quality standards set forth by Section 515. The purpose of these guidelines is to provide a framework under which the Department will allow affected persons an opportunity to seek and obtain correction of information maintained and disseminated by the Department that does not comply with these guidelines. DOT designated the Departmental Chief Information Officer (CIO) as the senior official responsible for DOT compliance with these guidelines. Final guidelines will be effective October 1, 2002.

The written procedures established within DOT's guidelines apply to all organizational components of the Department. For DOT organizations that require additional guidelines, these organizations should implement corresponding procedures that meet the terms of these Departmental guidelines. For the purposes of these guidelines, the term “DOT organizations” refer to:

Office of the Secretary (OST)

Bureau of Transportation Statistics (BTS)

Office of the Inspector General (OIG)

Federal Aviation Administration (FAA)

Federal Highway Administration (FHWA)

Federal Motor Carrier Safety Administration (FMCSA)

Federal Railroad Administration (FRA)

Federal Transit Administration (FTA)

Maritime Administration (MARAD)

National Highway Traffic Safety Administration (NHTSA)

Research and Special Programs Administration (RSPA)

Saint Lawrence Seaway Development Corporation (SLSDC)

Transportation Administrative Service Center (TASC)

Transportation Security Administration (TSA)

United States Coast Guard (USCG)

As provided in OMB's guidelines implementing Section 515, the Department is publishing this notice of availability of its draft quality guidelines in the Federal Register. The draft guidelines themselves are posted on the Department's DMS website at http://dms.dot.gov to provide an opportunity for public comment. We invite comments on all aspects of the guidelines, with emphasis on the following general questions:

1. Are the Department's draft guidelines adequate for ensuring and maximizing the quality, objectivity, utility, and integrity of its disseminated information as set out in OMB's notice of January 3, 2002?

2. Are the Department's procedures for allowing affected persons to seek and obtain correction of information appropriate?

Instructions for filing comments may also be found in the guidelines document posted on the Department's DMS web site. The Department will review all comments submitted in response to its draft guidelines. The comments will be available for public review on the DMS web site.

Issued in Washington, DC, on April 24, 2002.
Eugene K. Taylor, Jr.,
Deputy CIO, U.S. Department of Transportation.

[FR Doc. 02-10575 Filed 4-29-02; 8:45 am]

BILLING CODE 4910-62-P